DEPARTMENT OF AGRICULTURE

Rural Housing Service

[Docket No. RHS-21-MFH-0010]

Notice of Request for Revision of a Currently Approved Information Collection; Comments Requested

AGENCY: Rural Housing Service (RHS), USDA.

ACTION: Proposed collection; comments requested.

SUMMARY: In accordance with the Paperwork Reduction Act of 1995, this notice announces the intention of the above-named agency to request Office of Management and Budget's (OMB) approval for a revision of a currently approved information collection in support of the Rural Rental Housing Program.

DATES: Comments on this notice must be received by September 17, 2021.

FOR FURTHER INFORMATION CONTACT: Arlette Mussington, Rural Development Innovation Center—Regulations Management Division, USDA, 1400 Independence Avenue SW, Room 4227, South Building, Washington, DC 20250-1522. Telephone: (202)720-2825. Email arlette.mussington@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RBS is submitting to OMB for extension.

Comments are invited on: (a) Whether the proposed collection of information is necessary for the proper performance of the functions of the Agency, including whether the information will have practical utility; (b) The accuracy of the Agency's estimate of the burden of the proposed collection of information including the validity of the methodology and assumptions used; (c) Ways to enhance the quality, utility and clarity of the information to be collected; and (d) Ways to minimize the burden of the collection of information on those who are to respond, including through the use of appropriate automated, electronic, mechanical, or other technological collection techniques or other forms of information technology.

Comments may be sent by the Federal eRulemaking Portal: Go to http://www.regulations.gov and, in the lower “Search Regulations and Federal Actions” box, select “RHS” from the agency drop-down menu, then click on “Submit.” In the Docket ID column, select RHS-21-MFH-0010 to submit or view public comments and to view supporting and related materials available electronically. Information on using Regulations.gov, including instructions for accessing documents, submitting comments, and viewing the docket after the close of the comment period, is available through the site's “User Tips” link.

Title: Rural Renting Housing.

OMB Number: OMB No. 0575-0189.

Expiration Date of Approval: October 31, 2021.

Type of Request: Revision of a currently approved information collection.

Abstract: The Rural Rental Housing program provides adequate, affordable, decent, safe, and sanitary rental units for very low-, low-, and moderate-income households in rural areas. The programs covered by this part are authorized by title V of the Housing Act of 1949 and are: (1) Section 515 Rural Rental Housing, which includes congregate housing, group homes, and Rural Cooperative Housing. The Section 515 direct loan program provides financing to support the development of rental units in rural areas that need housing affordable to very low-, low-, and moderate-income households, and where this housing is unlikely to be provided through other means. (2) Sections 514 and 516 Farm Labor Housing loans and grants. Section 514/516 direct loan and grant programs provide funds to support the development of adequate, affordable housing for farm workers that is unlikely to be provided through other means. (3) Section 521 Rental Assistance. A project-based tenant rent subsidy which may be provided to Rural Rental Housing and Farm Labor Housing facilities.

Information is completed by developers and potential borrowers seeking approval of rural rental housing loans with the assistance of professionals such as attorneys, architects, and contractors and the operation and management of the MFH properties in an affordable decent, safe and sanitary manner. The forms and information provide the basis for making determinations of eligibility and the need and feasibility of the proposed housing. The information provides the basis for determining that rents charged are appropriate, the housing is well-maintained, and proper priority is given to those tenants eligible for occupancy. Information is collected to assure compliance with the terms and conditions of loan, grant and/or subsidy agreements.

Estimate of Burden: Public reporting burden for this collection of information is estimated to average .49 hours per response.

Respondents: Individuals, corporations, associations, trusts, Indian tribes, public or private nonprofit organizations, which may include faith-based, consumer cooperative, or partnership.

Estimated Number of Respondents: 589,500.

Estimated Number of Responses per Respondent: 2.02.

Estimated Number of Responses: 2,249,060.

Estimated Total Annual Burden on Respondents: 1,113,900 hours.

Copies of this information collection can be obtained from Arlette Mussington, Innovation Center—Regulations Management Division, at (202) 720-2825. Email: arlette.mussington@usda.gov.

All responses to this notice will be summarized and included in the request for OMB approval. All comments will become a matter of public record.

Chadwick Parker,
Acting Administrator, Rural Housing Service.

[FR Doc. 2021-15231 Filed 7-16-21; 8:45 am]

BILLING CODE 3410-XV-P